DEPARTMENT OF ENERGY

Federal Energy Regulatory Commission

Combined Notice of Filings

Take notice that the Commission has received the following Natural Gas Pipeline Rate and Refund Report filings:

Filings Instituting Proceedings

Docket Numbers: PR16-1-000.

Applicants: Mid Continent Market Center, L.L.C.

Description: Submits tariff filing per 284.123(b)(1) + (g): NGPA 311 Rate Certification to be effective 10/1/2015; Filing Type: 1300.

Filed Date: 10/9/15.

Accession Number: 20151009-5079.

Comments Due: 5 p.m. ET 10/30/15.

284.123(g) Protests Due: 5 p.m. ET 12/8/15.

Docket Numbers: RP11-1494-000.

Applicants: Kinder Morgan Interstate Gas Trans. LLC.

Description: Cost and Revenue Study of Tallgrass Interstate Gas Transmission, LLC.

Filed Date: 10/5/15.

Accession Number: 20151005-5122.

Comments Due: 5 p.m. ET 10/19/15.

Docket Numbers: RP16-34-000.

Applicants: Enable Mississippi River Transmission, L.

Description: Section 4(d) Rate Filing: Negotiated Rate Filing to Amend LER 5680's Attachment A_10_7_15 to be effective 10/7/2015.

Filed Date: 10/7/15.

Accession Number: 20151007-5065.

Comments Due: 5 p.m. ET 10/19/15.

Docket Numbers: RP16-35-000.

Applicants: Columbia Gas Transmission, LLC.

Description: Compliance filing East Side Expansion Implementation, CP14-17 to be effective 11/1/2015.

Filed Date: 10/8/15.

Accession Number: 20151008-5115.

Comments Due: 5 p.m. ET 10/20/15.

Docket Numbers: RP16-36-000.

Applicants: Colorado Interstate Gas Company, L.L.C.

Description: Annual Report Detailing 2014 Surcharge of Colorado Interstate Gas Company, L.L.C.

Filed Date: 10/8/15.

Accession Number: 20151008-5236.

Comments Due: 5 p.m. ET 10/20/15.

Docket Numbers: RP16-37-000.

Applicants: Columbia Gas Transmission, LLC.

Description: Section 4(d) Rate Filing: Negotiated & Non-Conforming Service Agmt ESE—NJNG.SJGas.NJNG to be effective 11/1/2015.

Filed Date: 10/9/15.

Accession Number: 20151009-5258.

Comments Due: 5 p.m. ET 10/21/15.

Docket Numbers: RP16-38-000.

Applicants: Iroquois Gas Transmission System, L.P.

Description: Section 4(d) Rate Filing: 10/12/15 Negotiated Rates—Trafigura Trading LLC (RTS) 7445-08 to be effective 11/1/2015.

Filed Date: 10/13/15.

Accession Number: 20151013-5059.

Comments Due: 5 p.m. ET 10/26/15.

Docket Numbers: RP16-39-000.

Applicants: Iroquois Gas Transmission System, L.P.

Description: Section 4(d) Rate Filing: 10/12/15 Negotiated Rates—MMGS, Inc. (RTS) 7625-02 & -03 to be effective 11/1/2015.

Filed Date: 10/13/15.

Accession Number: 20151013-5060.

Comments Due: 5 p.m. ET 10/26/15.

Docket Numbers: RP16-40-000.

Applicants: Iroquois Gas Transmission System, L.P.

Description: Section 4(d) Rate Filing: 10/12/15 Negotiated Rates—Macquarie Energy LLC (RTS) 4090-09 & -10 to be effective 11/1/2015.

Filed Date: 10/13/15.

Accession Number: 20151013-5061.

Comments Due: 5 p.m. ET 10/26/15.

Docket Numbers: RP16-41-000.

Applicants: Iroquois Gas Transmission System, L.P.

Description: Section 4(d) Rate Filing: 10/12/15 Negotiated Rates—Emera Energy Services, Inc. (RTS) 2715-24 & -25 to be effective 11/1/2015.

Filed Date: 10/13/15.

Accession Number: 20151013-5062.

Comments Due: 5 p.m. ET 10/26/15.

Docket Numbers: RP16-42-000.

Applicants: Iroquois Gas Transmission System, L.P.

Description: Section 4(d) Rate Filing: 10/12/15 Negotiatied Rates—DTE Energy Trading, Inc. (RTS) 1830-10 & -11 to be effective 11/1/2015.

Filed Date: 10/13/15.

Accession Number: 20151013-5064.

Comments Due: 5 p.m. ET 10/26/15.

Docket Numbers: RP16-43-000.

Applicants: Iroquois Gas Transmission System, L.P.

Description: Section 4(d) Rate Filing: 10/12/15 Negotiated Rates—Cargill Incorporated (RTS) 3085-24 & -25 to be effective 11/1/2015.

Filed Date: 10/13/15.

Accession Number: 20151013-5065.

Comments Due: 5 p.m. ET 10/26/15.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP15-1269-001.

Applicants: Gulf Shore Energy Partners, LP.

Description: Tariff Amendment: Gulf Shore Energy—Change of Ownership Filing—Amendment to be effective 10/9/2015.

Filed Date: 10/9/15.

Accession Number: 20151009-5121.

Comments Due: 5 p.m. ET 10/21/15.

Docket Numbers: RP16-35-001.

Applicants: Columbia Gas Transmission, LLC.

Description: Compliance filing East Side Implementation, CP14-7 Errata to be effective 11/1/2015.

Filed Date: 10/9/15.

Accession Number: 20151009-5267.

Comments Due: 5 p.m. ET 10/21/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 13, 2015.
Nathaniel J. Davis, Sr.,
Deputy Secretary.

[FR Doc. 2015-26709 Filed 10-20-15; 8:45 am]

BILLING CODE 6717-01-P